DEPARTMENT OF TRANSPORTATION

Office of the Secretary

14 CFR Parts 234, 244, 250, 255, 256, 257, 259, and 399

[Docket No. DOT-OST-2014-0056]

RIN 2105-AE11

Transparency of Airline Ancillary Fees and Other Consumer Protection Issues

AGENCY: Office of the Secretary (OST), Department of Transportation (DOT).

ACTION: Extension of comment period on proposed rule.

SUMMARY: This action extends the comment period for an NPRM on transparency of airline ancillary fees and other consumer protection issues that was published in the Federal Register on May 23, 2014. The Department of Transportation is extending the period for interested persons to submit comments on this rulemaking from August 21, 2014, to September 22, 2014. This extension is a result of a joint petition filed by a number of airline associations to extend the comment period for the proposal.

DATES: Comments must be received by September 22, 2014. Comments received after this date will be considered to the extent practicable.

ADDRESSES: You may file comments identified by the docket number DOT-OST-2014-0056 by any of the following methods:

• Federal eRulemaking Portal: go to http://www.regulations.gov and follow the online instructions for submitting comments.

• Mail: Docket Management Facility, U.S. Department of Transportation, 1200 New Jersey Ave. SE., Room W12-140, Washington, DC 20590-0001.

• Hand Delivery or Courier: West Building Ground Floor, Room W12-140, 1200 New Jersey Ave. SE., between 9:00a.m. and 5:00p.m. ET, Monday through Friday, except Federal Holidays.

• Fax: (202) 493-2251.

Instructions: You must include the agency name and docket number DOT-OST-2014-0056 or the Regulatory Identification Number, RIN No. 2105-AE11, for the rulemaking at the beginning of your comment. All comments received will be posted without change to http://www.regulations.gov, including any personal information provided.

Privacy Act: Anyone is able to search the electronic form of all comments received in any of our dockets by the name of the individual submitting the comment (or signing the comment if submitted on behalf of an association, a business, a labor union, etc.). You may review DOT's complete Privacy Act statement in the Federal Register published on April 11, 2000 (65 FR 19477-78), or you may visit http://Docketslnfo.dot.gov.

Docket: For access to the docket to read background documents or comments received, go to http://www.regulations.gov or to the street address listed above. Follow the online instructions for accessing the docket.

FOR FURTHER INFORMATION CONTACT: Kimberly Graber or Blane A. Workie, Office of the Assistant General Counsel for Aviation Enforcement and Proceedings, U.S. Department of Transportation, 1200 New Jersey Ave. SE., Washington, DC 20590, 202-366-9342 (phone), 202-366-7152 (fax), Kimberly.graber@dot.gov or blane.workie@dot.gov (email).

SUPPLEMENTARY INFORMATION: On May 23, 2014, the Department published a Notice of Proposed Rulemaking (NPRM) on transparency of airline ancillary fees and other consumer protection issues, including clarifying and codifying the Department's interpretation of the statutory definition of “ticket agent;” expanding the pool of “reporting” carriers; requiring enhanced reporting by mainline carriers for their domestic code-share partner operations; requiring large travel agents to adopt minimum customer service standards; codifying the statutory requirement that carriers and ticket agents disclose any airline code-share arrangements on their Web sites; and prohibiting unfair and deceptive practices such as undisclosed biasing in schedule and fare displays and post-purchase price increases. Additionally, this NPRM would correct drafting errors and make minor changes to the Department's second Enhancing Airline Passenger Protections rule to conform to guidance issued by the Department's Office of Aviation Enforcement and Proceedings (Enforcement Office) regarding its interpretation of the rule. See 79 FR 29970 (May 23, 2014). Comments on the matters proposed were to be received 90 days after publication of the NPRM, or by August 21, 2014.

We received a joint petition for a 90-day extension of the comment period for this rulemaking by Airlines for America (A4A), the International Air Transportation Association (IATA), and the Regional Airline Association (RAA). According to this petition, the extension is appropriate because the NPRM proposes significant new regulations on U.S. and foreign carriers and ticket agents, in addition to requesting information and views on dozens of topics that could materially alter the proposal. The petitioners also state that the proposed rule would expand the regulated community by covering previously unregulated entities and commercial relationships. Further, the petitioners point out that the Regulatory Impact Analysis (RIA) accompanying the NPRM requests information on a number of proposals and alternatives and more time is needed to provide the Department with the extensive information it requests.

We received four comments generally in support of this joint petition. Spirit Airlines supports the joint petition and its underlying rationale. Airline Tariff Publishing Company (ATPCO) also agrees with the petition particularly because of the complex technical questions raised by the NRPM in relation to implementing the proposal of enhancing transparency in airline ancillary fees. Open Allies for Airfare Transparency urges the Department not to prolong the adoption of a rule that would enhance airline pricing transparency but also recognizes the complexity of the proposals in this NPRM. Therefore, it supports a “reasonable extension” period of less than 90 days. Travelers United opposes any extension to the comment period for the proposal to enhance transparency of ancillary fees and states that this topic has been debated and commented for three years. It also opposes an extension to the comment period proposals related to reporting issues. Also recognizing the complexity of the NPRM, Travelers United supports a limited extension to the comment period for other topics such as codifying the definition of ticket agent, requiring large travel agents to adopt customer service standards, transparency of codeshare operations, and disclosure of biasing in schedule and fare displays.

While we concur with the requests for an extension of the comment period, we believe that a 90-day extension would be excessive. We have decided to grant an extension of 30 days, or until September 22, 2014, for the public to comment on the NPRM. We believe this extension is appropriate in balancing the need for additional time for comments and the need to proceed expeditiously with this important rulemaking. We note that the proposal to enhance airline ancillary fee transparency, which is the proposal in this NPRM that involves the most technical complexities, was one of the proposals in the Department's 2010 Enhancing Airline Passenger Protection rulemaking. In the final rule of that rulemaking, we deferred final action on this matter to a future rulemaking. Therefore, the interested parties have been on notice that we intended to further explore this topic in a subsequent rulemaking. We further note that with this additional 30 days we are granting here, interested parties will have total of 120 days to comment on the proposals, which we believe is adequate time for analysis and coordination regarding the proposals.

Accordingly, the Department finds that good cause exists to extend the time for comments on the proposed rule from August 21, 2014, to September 22, 2014. We do not anticipate any further extension of the comment period for this rulemaking.

Issued this 31st day of July, 2014, in Washington, DC.
Kathryn B. Thomson,
General Counsel, Office of Regulation and Enforcement, U.S. Department of Transportation.

[FR Doc. 2014-18525 Filed 8-5-14; 8:45 am]

BILLING CODE P